DEPARTMENT OF HEALTH AND HUMAN SERVICES

Administration for Children and Families

Proposed Information Collection Activity; ACF-801: Child Care and Development Fund (CCDF) Quarterly Case-Level Report (Office of Management and Budget #0970-0167)

AGENCY: Office of Child Care, Administration for Children and Families, U.S. Department of Health and Human Services.

ACTION: Request for public comments.

SUMMARY: The Office of Child Care (OCC), Administration for Children and Families (ACF) is requesting a three-year extension with changes to the form ACF-801: CCDF Quarterly Case-Level Report (Office of Management and Budget (OMB) #0970-0167, expiration 4/30/2025). OCC proposes changes to the reporting requirements for family co-payments and to combine race and ethnicity into a single category. Additionally, OCC proposes to add a new data element, the provider's county Federal Information Processing Series (FIPS) code, as well as including modified instructions for the total hours of care being provided.

DATES: Comments due January 6, 2025. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The ACF-801 provides monthly case-level data on the children and families receiving direct child care services under CCDF. The ACF-801 case-level data are reported either monthly or quarterly. OCC proposes changes to the reporting requirements for family co-payments to better understand how co-payments are distributed across multiple children and program settings.

OCC has updated the race and ethnicity question to align with the updated Statistical Policy Directive 15: Standards for Maintaining, Collecting, and Presenting Federal Data on Race and Ethnicity (SPD 15). The new categories and instructions for reporting race and ethnicity will provide improved data quality and uniformity of information collected that is consistent with OMB guidance. Additionally, OCC proposes to add a new data element, the provider's county FIPS code, for county-level analysis, such as mapping or geo-coding. Revised instructions for the collection of total hours of care provided monthly will address provisions in the 2024 CCDF final rule related to payment based on a child's enrollment rather than attendance.

Respondents: State and Territory Lead Agencies.

Annual Burden Estimates
Instrument | Total number of respondents | Annual number of responses per respondent | Average burden hours per response | Annual burden hours
ACF-801: CCDF Quarterly Case-Level Report | 56 | 4 | 6.5 | 1,456

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

The Department also seeks public comment on the proposed changes related to reporting family co-payments.

Finally, the Department seeks public comment on use of the pooling factor for CCDF administrative data reporting. The current ACF-800 and ACF-801 reports instruct states that pool CCDF and non-CCDF funds to report all children and families funded by these pooled funding sources on both the ACF-800 and ACF-801. ACF then applies a pooling factor (reported by the state on the ACF-800) to determine the number of children and families served by CCDF. During the public comment period, ACF is soliciting comments on this approach, or whether it is possible for states to identify and separately report all children and families served by CCDF without the need to apply a pooling factor.

Authority: Section 658K of the Child Care and Development Block Grant Act (42 U.S.C. 9858); regulations 45 CFR 98.70 and 98.71.

Mary C. Jones,
ACF/OPRE Certifying Officer.

[FR Doc. 2024-25691 Filed 11-4-24; 8:45 am]

BILLING CODE 4184-01-P